DEPARTMENT OF ENERGY

[Project No. 14723-000]

Jordan Whittaker; Notice of Preliminary Permit Application Accepted for Filing and Soliciting Comments, Motions To Intervene, and Competing Applications

On October 29, 2015, Jordan Whittaker filed an application for a preliminary permit, pursuant to section 4(f) of the Federal Power Act (FPA), proposing to study the feasibility of the Oxbow Hydroelectric Project (Oxbow Project or project) to be located on Clear and Tenmile Creeks, tributaries to Eighteenmile Creek and the Lemhi River, near Leadore in Lemhi County, Idaho. The sole purpose of a preliminary permit, if issued, is to grant the permit holder priority to file a license application during the permit term. A preliminary permit does not authorize the permit holder to perform any land-disturbing activities or otherwise enter upon lands or waters owned by others without the owners' express permission.

The proposed project would utilize two existing diversions on Clear and Tenmile Creeks and would use irrigation water that currently flows from approximately March to October within the existing Clear and Tenmile Creeks irrigation canals. The project would consist of the following: (1) Reconstruction of the two existing diversions to include flow control gates, pipeline intakes, and fish screens; (2) two new plastic or steel, buried penstocks to replace or supplement the existing irrigation canals, depending on available flows, including a 7.7-mile-long, 24-inch-diameter Clear Creek penstock, and a 6.7-mile-long, 21-inch diameter Tenmile Creek penstock; (3) a new 20-foot by 40-foot powerhouse containing a single Pelton turbine and generator with a generating capacity of 1,400 kilowatts; (4) a new 4-foot by 4-foot concrete splitter box where water would exit the powerhouse into the Tenmile canal, with gates, as needed, to segregate irrigation water; (5) a new 7.7-mile-long, 12.5-kilovolt (kV) transmission line from the powerhouse to an existing 69 kV transmission line at the point of interconnection near the town of Leadore; and (6) appurtenant facilities.

Applicant Contact: Mr. Jordan Whittaker, 270 Cold Springs Road, Leadore, Idaho 83464; phone: (208) 768-2058.

FERC Contact: Ken Wilcox; phone: (202) 502-6835.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14723-000.

More information about this project, including a copy of the application, can be viewed or printed on the “eLibrary” link of Commission's Web site at http://www.ferc.gov/docs-filing/elibrary.asp. Enter the docket number (P-14723) in the docket number field to access the document. For assistance, contact FERC Online Support.

Dated: November 9, 2015.
Nathaniel J. Davis, Sr.,
Deputy Secretary.

[FR Doc. 2015-29156 Filed 11-13-15; 8:45 am]

BILLING CODE 6717-01-P